DEPARTMENT OF THE INTERIOR

National Park Service

Aztec Ruins National Monument, New Mexico

AGENCY: National Park Service, Department of the Interior.

ACTION: Notice of availability.

SUMMARY: Pursuant to Section 9.52(b) of Title 36 of the Code of Federal Regulations, the National Park Service announces the availability of a Plan of Operations to continue operating the Fee 4-A and Fee 9Y natural gas wells by XTO Energy, within Aztec Ruins National Monument. An Environmental Assessment is also available.

DATES: The NPS will accept comments from the public on the documents up to 30 days after publication of this notice.

ADDRESSES: The documents are available for public review in the office of the Superintendent, Aztec Ruins National Monument, 84 County Road 2900, Aztec, New Mexico 87410; and copies are available, for a duplication fee.

FOR FURTHER INFORMATION CONTACT: Theresa Nichols, Chief of Resources Management, Aztec Ruins National Monument, telephone: (505) 334-6174, ext. 23, or e-mail at Terry_nichols@nps.gov.

SUPPLEMENTARY INFORMATION: You may submit comments by mailing or hand-delivering them to the park at the address provided above, or electronically filing them to the e-mail address provided above. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dennis Carruth,
Superintendent, Aztec Ruins National Monument.

[FR Doc. 05-352 Filed 1-6-05; 8:45 am]

BILLING CODE 4312-ET-P